DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of currently approved collection. The ICR describes the nature of the information collection and the expected burden. The Federal Register Notice with a 60-day comment period soliciting comments on the following collection of information was published on May 9, 2000, [FR 65, pages 26871-26872].

DATES: Comments be submitted on or before November 6, 2000. A comment to OMB is most effective if OMB receives it within 30 days of publication.

FOR FURTHER INFORMATION CONTACT: Judy Street on (202) 267-9895.

SUPPLEMENTARY INFORMATION:

Federal Aviation Administration (FAA)

Title: Notice and Approval of Airport Noise and Access Restrictions.

Type of Request: Extension of a currently approved collection.

OMB Control Number: 2120-0563.

Forms(s): None.

Affected Public: Estimated annual count is 8 (Airport Operators, and aircraft operators).

Abstract: The Airport Noise and Capacity Act of 1990 mandates the formulation of a national noise policy. One part of the mandate is the development of a national program to review noise and access restrictions on the operation of Stage 2 and 3 aircraft. 14 CFR part 161 is the principal means to implement this part of the Act. Respondents are airport operators proposing voluntary agreements and/or mandatory restrictions on Stage 2 and Stage 3 aircraft operations, and aircraft operators that request reevaluation of a restriction.

Estimated Annual Burden Hours: 30,000 annually.

ADDRESSES: Send comments to the Office of Information and Regulatory Affairs, Office of Management and Budget, 725—17th Street, NW., Washington, DC 20503, Attention FAA Desk Officer.

Comments are invited on whether the proposed collection of information is necessary for the proper performance of the functions of the Department, including whether the information will have practical utility; the accuracy of the Department's estimate of the burden of the proposed information collections; ways to enhance the quality, utility, and clarity of the information to be collected; and ways to minimize the burden of the collection of information on respondents, in including the use of automated collection techniques of other forms of information technology.

Issued in Washington, DC, on September 27, 2000.
Steve Hopkins,
Manager, Standards and Information Division, APF-100.

[FR Doc. 00-25645 Filed 10-4-00; 8:45 am]

BILLING CODE 4910-13-M